DEPARTMENT OF HOUSING AND URBAN DEVELOPMENT

[Docket No. FR-4491-N-07]

Final NEPA Environmental Impact Statement (EIS); 1105-1135 Warburton Avenue, City of Yonkers, NY; Affordable Housing Ordinance (AHO) Mandated by a 1988 Federal Long-Term Plan Order

AGENCY: Office of the Assistant Secretary for Community Planning and Development, HUD.

ACTION: Notice.

SUMMARY: The Department of Housing and Urban Development (HUD) gives this notice to the public that the City of Yonkers, New York, has completed and makes available to the public for comment the Final Environmental Impact Statement (FEIS) that analyzes the potential impacts of developing a 4.6 acre property, located on the west side of Warburton Avenue, north of O'Dell Avenue, in the City of Yonkers, New York.

The original project was proposed for 524 units and eleven stories. The FEIS now contains two preferred alternatives, which shall set the development parameters of the project between 418 units and 440 units, and between 7 and 10 stories. Both alternatives are required to provide affordable units mixed with market rate units in accordance with the City's Affordable Housing Ordinance (AHO). The applicant proposes to utilize the 80/20 Program tax exempt financing and federal tax credits. No direct HUD funding is currently involved.

This notice is in accordance with the regulations of the Council on Environmental Quality as described in 40 CFR parts 1500-1508. Federal agencies having jurisdiction by law, special expertise, or other special interest are requested to comment.

DATES: Comment Due Date: June 10, 2002.

FOR FURTHER INFORMATION CONTACT: All interested agencies, groups and persons are invited to submit comments on the FEIS directly to Lee Ellman, Planning Director, Department of Planning and Development, City of Yonkers, 87 Nepperhan Avenue, Suite 311, Yonkers, New York, 10701, (914) 377-6558. lee.ellman@cityofyonkers.com.

Copies of the FEIS for 1105-1135 Warburton Avenue are available at the Yonkers Public Library: Getty Square Branch, 7 Main Street, Yonkers, NY 10701; Grinton I. Will Branch, 1500 Central Park, Yonkers, NY 10710; Crestwood Branch, 16 Thompson Street, Yonkers, NY 10702; or from the City of Yonkers Planning Bureau, 87 Nepperhan Avenue, Suite 311, Yonkers, New York, 10701.

SUPPLEMENTARY INFORMATION: The Affordable Housing Ordinance (AHO) is mandated by a 1988 Federal Long-Term Plan Order. A subsequent federal court decision requires environmental review of all affordable housing projects under the National Environmental Policy Act (NEPA). This project is an affordable housing development falling under the AHO. The City of Yonkers determined that the housing project constitutes an action significantly affecting the quality of the human environment and therefore required the preparation of an EIS in accordance with NEPA. The residential building proposed sets aside a number of units to satisfy the affordable housing requirement.

A scoping session to determine the issues of the Draft EIS (DEIS) was opened on March 23, 2000 and a final scoping document was accepted on June 29, 2000. The City accepted the DEIS as complete on November 15, 2000, and set a date for a public hearing. The DEIS was the subject of public comments, both oral and written, provided by agencies, interested groups, and individuals, at the public hearing on December 13, 2000, and during the DEIS public comment period which extended through March 3, 2001. In response to public comments on the DEIS, the Yonkers Planning Board, at its February 13, 2002 meeting, chose by resolution to identify two alternatives to carry forward in the FEIS. The public comments and preferred alternatives have been incorporated into the text of the Final EIS, which was completed in March 2002.

The public hearing for the Draft EIS was for the original 524-unit, 11-story building that had 10 percent of the units affordable. Correspondence from 53 involved or interested agencies and interested persons or groups were received on the project. Thirty-four responses were received by the Army Corps of Engineers relating to wetlands. The Army Corps of Engineers conducted its public hearing concurrently with the NEPA/SEQR public hearing process.

Discussion of Mitigation Measures

Public comments that were received on the DEIS primarily focused on issues relating to land use density, height and bulk impacts on scenic view sheds, wetlands protection, parking, and traffic on local streets.

A 1.45-acre portion of the property is wetland. One full acre of the wetland will remain on site and the City has indicated its preference to have the applicant mitigate the wetland impact with a new wetland at a location within the City of Yonkers or in a mutually accepted location. Relating to wetlands, on- and off-site mitigation measures are subject to approval by the Army Corps of Engineers under application number 1999-10770-YN.

In addition, other mitigation measures proposed for inclusion in the redesign of the project as discussed in the FEIS are the following. To reduce density, the number of units would be reduced from 524 in the original proposal to between 418 and 440 units. To reduce the visual impact on the Old Croton Aqueduct, the 11-story height of the building in the original proposal would be reduced to between 7 and 10 stories, and will be gradually stepped down to 4 stories. The building has also been rotated to further protect views. The project meets and exceeds the Yonkers Zoning Code Parking requirements and the applicant has agreed to continually monitor the parking situation. To mitigate traffic impacts, the applicant has agreed to fund substantial traffic improvements at area intersections and roadways, including a new traffic light at Odell and Warburton Avenue, new pavement, striping, guardrails and traffic signage along Odell Avenue.

Questions may be directed to the individual named above under the heading “For Further Information Contact.”

Dated: May 3, 2002.
Roy A. Bernardi,
Assistant Secretary for Community Planning and Development.

[FR Doc. 02-11647 Filed 5-8-02; 8:45 am]

BILLING CODE 4210-29-P